FEDERAL MARITIME COMMISSION

Ocean Transportation Intermediary License Applicants

The Commission gives notice that the following applicants have filed an application for an Ocean Transportation Intermediary (OTI) license as a Non-Vessel-Operating Common Carrier (NVO) and/or Ocean Freight Forwarder (OFF) pursuant to section 19 of the Shipping Act of 1984 (46 U.S.C. 40101). Notice is also given of the filing of applications to amend an existing OTI license or the Qualifying Individual (QI) for a licensee.

Interested persons may contact the Office of Ocean Transportation Intermediaries, Federal Maritime Commission, Washington, DC 20573, by telephone at (202) 523-5843 or by email at OTI@fmc.gov.

Concepts in Freight, Inc. (NVO & OFF), 10813 NW 30th Street, Doral, FL 33172. Officers: Fadi Aftimos, Vice President (QI) Asma Aftimos, President. Application Type: QI Change.

Katoen Natie Tank Operations, Inc. (NVO & OFF), 1805 Turning Basin Drive, Suite 100A, Houston, TX 77029. Officers: Frank Vingerhoets, Director (QI), Suzanna Van Goethem, Director. Application Type: QI Change.

Interglobal Shipping, LLC (OFF), 14900 Woodham Drive, Suite A-150, Houston, TX 77073. Officers: Afsaneh Saei Oskoei, Managing Member (QI) Prince Eti, Member Application Type: New OFF License.

MGK International, Inc. (OFF), 13 Roszel Road, Suite C 201, Princeton, NJ 08540. Officer: Hitendra Jain, President (QI), Application Type: New OFF License.

Oceans Consolidators Inc. (NVO & OFF), 10975 NW 29th Street, Miami, FL 33172. Officers: Carlos J. Bengochea, President (QI), Olga R. Bengochea, Vice President. Application Type: Add OFF Service.

Perimeter International dba Perimeter Logistics (NVO & OFF), 2700 Story Road West, Irving, TX 75038. Officers: Beau Lamothe, Treasurer (QI) Merry Lyn Lamothe, President. Application Type: New NVO & OFF License.

Dated: January 11, 2013.
By the Commission.
Karen V. Gregory,
Secretary.

[FR Doc. 2013-00825 Filed 1-15-13; 8:45 am]

BILLING CODE 6730-01-P